DEPARTMENT OF THE INTERIOR

Bureau of Land Management

[OR-130-1020-PH; GP5-0085]

Notice of April 15, 2005, Eastern Washington Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Eastern Washington Resource Advisory Council (RAC), will meet as indicated below.

DATES: The Eastern Washington Resource Advisory Council (EWRAC) meeting for April 15, 2005 at the Spokane District Office, Bureau of Land Management, 1103 North Fancher Rd., Spokane, Washington 99212-1275.

SUPPLEMENTARY INFORMATION: The rescheduled meeting on April 15, 2005 will start at 9 a.m. and adjourn about 4 p.m. Topics on the meeting agenda include:

• Juniper Dunes Access.

• Update on Land Exchanges.

• District Budget and Workload.

• Recreation Fee Demonstration.

• Future Meetings.

The RAC meeting is open to the public, and there will be an opportunity for public comments at 11 a.m. Information to be distributed to Council members for their review is requested in written format 10 days prior to the Council meeting date.

FOR FURTHER INFORMATION CONTACT: Sandra Gourdin or Kathy Helm, Bureau of Land Management, Spokane District Office, 1103 N. Fancher Road, Spokane, Washington 99212, or call (509) 536-1200.

Dated: March 11, 2005.
Roberta B. Estes,
Acting District Manager.

[FR Doc. 05-5293 Filed 3-16-05; 8:45 am]

BILLING CODE 4310-33-P